DEPARTMENT OF COMMERCE

International Trade Administration

[[A-557-813]

Polyethylene Retail Carrier Bags From Malaysia: Final Results of the Antidumping Duty Administrative Review; 2019-2020

AGENCY: Enforcement and Compliance, International Trade Administration, Department of Commerce.

SUMMARY: The Department of Commerce (Commerce) determines that Euro SME Sdn. Bhd. made sales of subject merchandise at less than normal value (NV) during the period of review (POR) August 1, 2019, through July 31, 2020.

DATES: Applicable March 8, 2022.

FOR FURTHER INFORMATION CONTACT: Stephanie Berger, AD/CVD Operations, Office III, Enforcement and Compliance, International Trade Administration, U.S. Department of Commerce, 1401 Constitution Avenue NW, Washington, DC 20230; telephone: (202) 482-24783.

SUPPLEMENTARY INFORMATION:

Background

On September 2, 2021, Commerce published the Preliminary Results for this administrative review.¹ We invited interested parties to comment on the Preliminary Results. This review covers one producer/exporter of the subject merchandise: Euro SME Sdn. Bhd. and Euro Nature Green Sdn. Bhd. (Nature Green) (collectively, Euro SME).² On December 7, 2021, we extended the deadline for the final results of this review to March 1, 2022.³ We received a case brief from the petitioners ⁴ and a rebuttal brief from Euro SME.⁵ A complete summary of the events that occurred since publication of the Preliminary Results is found in the Issues and Decision Memorandum.⁶ Commerce conducted this review in accordance with section 751 of the Tariff Act of 1930, as amended (the Act).

¹ See Polyethylene Retail Carrier Bags from Malaysia: Preliminary Results of Antidumping Duty Administrative Review; 2019-2020, 86 FR 49309 (September 2, 2021) (Preliminary Results), and accompanying Preliminary Decision Memorandum.

² In the 2018-2019 administrative review of the antidumping duty order, Commerce collapsed Euro SME Sdn. Bhd. and Nature Green and treated them as a single entity. See Polyethylene Retail Carrier Bags from Malaysia: Preliminary Results of Antidumping Duty Administrative Review; 2018-2019, 85 FR 83515 (December 22, 2020), and accompanying Preliminary Decision Memorandum at 3-5, unchanged in Polyethylene Retail Carrier Bags from Malaysia: Final Results of Antidumping Duty Administrative Review; 2018-2019, 86 FR 22019 (April 26, 2021). Our treatment of Euro SME Sdn. Bhd. and Nature Green remains unchanged in the instant review.

³ See Memorandum, “Polyethylene Retail Carrier Bags from Malaysia: Extension of Time Limit for the Final Results of Antidumping Duty Administrative Review, 2019-2020,” dated December 7, 2021.

⁴ The petitioners are the Polyethylene Retail Carrier Bag Committee and its individual members, Hilex Poly Co., LLC and Superbag Corporation (collectively, petitioners). See Petitioners' Letter, “Polyethylene Retail Carrier Bags from Malaysia: Petitioners' Case Brief,” dated December 14, 2021.

⁵ See Euro SME's Letter, “Polyethylene Retail Carrier Bags from Malaysia; Resubmission of Rebuttal Brief,” dated January 7, 2022.

⁶ See Memorandum, “Issues and Decision Memorandum for the Final Results of the 2019-2020 Antidumping Duty Administrative Review: Polyethylene Retail Carrier Bags from Malaysia,” dated concurrently with, and hereby adopted by, this notice (Issues and Decision Memorandum).

Scope of the Order

The merchandise covered by this order is polyethylene retail carrier bags (PRCBs) from Malaysia, which may be referred to as t-shirt sacks, merchandise bags, grocery bags, or checkout bags. Imports of merchandise included within the scope of this antidumping duty order are currently classifiable under statistical category 3923.21.0085 of the Harmonized Tariff Schedule of the United States (HTSUS). This subheading may also cover products that are outside the scope of this antidumping duty order. Although the HTSUS subheading is provided for convenience and customs purposes, the written description of the scope of this antidumping duty order is dispositive. For a full description of the scope of the order, see the Issues and Decision Memorandum.

Verification

Commerce was unable to conduct on-site verification of the information relied upon for the final results of this review. However, we took additional steps in lieu of an on-site verification to verify this information, in accordance with section 782(i) of the Act.⁷

⁷ See Commerce's Letter, In Lieu of Verification Questions, dated October 21, 2021; see also Euro SME's Letter, “Polyethylene Retail Carrier Bags from Malaysia; Response to Request for Information,” dated October 28, 2021.

Analysis of the Comments Received

We addressed all issues raised in the case and rebuttal briefs in the Issues and Decision Memorandum.⁸ A list of the issues discussed in the Issues and Decisions Memorandum is attached in an appendix to this notice. The Issues and Decision Memorandum is a public document and is available electronically via Enforcement and Compliance's Antidumping and Countervailing Duty Centralized Electronic System (ACCESS). ACCESS is available to registered users at https://access.trade.gov. In addition, a complete version of the Issues and Decision Memorandum can be accessed directly at https://access.trade.gov/public/FRNoticesListLayout.aspx.

⁸ See Issues and Decision Memorandum.

Changes Since the Preliminary Results

Based on our analysis of the comments received from interested parties, a review of the record, and for the reasons explained in the Issues and Decision Memorandum, we made changes to Euro SME's preliminary margin calculations. For a detailed discussion of these changes, see the Issues and Decision Memorandum.

Final Results of the Administrative Review

We determine that the following weighted-average dumping margin exists for the respondent for the period July 1, 2019, through June 30, 2020:

Exporter/producer | Weighted-average dumping margin (percent)
Euro SME Sdn. Bhd.; and Euro Nature Green Sdn. Bhd | 6.47

Assessment Rates

Pursuant to section 751(a)(2)(C) of the Act and 19 CFR 351.212(b)(1), Commerce has determined, and U.S. Customs and Border Protection (CBP) shall assess, antidumping duties on all appropriate entries of subject merchandise in accordance with the final results of this review. In accordance with 19 CFR 351.212(b)(1), Commerce calculated an importer-specific ad valorem antidumping assessment rate for Euro SME that is not zero or de minimis and intends to instruct CBP to assess antidumping duties on all appropriate entries covered by this review.

Consistent with Commerce's assessment practice, for entries of subject merchandise during the POR produced by Euro SME for which it did not know that the merchandise was destined for the United States, we intend to instruct CBP to liquidate such unreviewed entries at the all-others rate if there is no company-specific rate for the intermediate company(ies) involved in the transaction.⁹

⁹ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) The cash deposit rate for Euro SME will be equal to the weighted-average dumping margin established in the final results of this administrative review; (2) for merchandise exported by producers or exporters not covered in this review but covered in a prior completed segment of the proceeding, the cash deposit rate will continue to be the company-specific rate published for the most recently completed segment of this proceeding in which the producer or exporter participated; (3) if the exporter is not a firm covered in this review, a prior review, or the original investigation, but the producer has been covered in a prior complete segment of this proceeding, then the cash deposit rate will be the rate established for the most recent period for the producer of the merchandise; (4) the cash deposit rate for all other manufacturers or exporters will continue to be 84.94 percent, the all-others rate established in the less-than-fair-value investigation.¹⁰ These cash deposit requirements, when imposed, shall remain in effect until further notice.

¹⁰ See Antidumping Duty Order: Polyethylene Retail Carrier Bags from Malaysia, 69 FR 48203 (August 9, 2004).

Disclosure

We intend to disclose the calculations performed for these final results within five days of the date of publication of this notice in the Federal Register, in accordance with 19 CFR 351.224(b).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these final results in accordance with sections 751(a)(1) and 777(i) of the Act, and 19 CFR 351.221(b)(5).

Dated: March 1, 2022.
Lisa W. Wang,
Assistant Secretary for Enforcement and Compliance.

Appendix—List of Topics Discussed in the Issues and Decision Memorandum

I. Summary

II. Background

III. Scope of the Order

IV. Changes Since the Preliminary Results

V. Discussion of the Issues

Comment 1: Partial Application of Adverse Facts Available to Euro SME's Actual Weights

Comment 2: Partial Application of Adverse Facts Available to Euro SME's Inland Freight

Comment 3: Commerce's Treatment of Euro SME's Freight Revenue

VI. Recommendation

[FR Doc. 2022-04886 Filed 3-7-22; 8:45 am]

BILLING CODE 3510-DS-P